DEPARTMENT OF DEFENSE

Office of the Secretary

[Docket ID: DoD-2014-OS-0023]

Privacy Act of 1974; System of Records

AGENCY: Office of the Secretary of Defense, DoD.

ACTION: Notice to add a new System of Records.

SUMMARY: The Office of the Secretary of Defense proposes to add a new system of records, entitled “Interoperability Layer Service (IoLS)”, to its inventory of record systems subject to the Privacy Act of 1974, as amended. The system will evaluate individuals' eligibility for access to DoD facilities or installations and implement security standards controlling entry to DoD facilities and installations.

DATES: Comments will be accepted on or before March 31, 2014. This proposed action will be effective on the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on April 4, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: February 21, 2014.
Aaron Siegel,
Alternate OSD Federal Register Liaison Officer, Department of Defense.

DMDC 16 DoD

System name:

Interoperability Layer Service (IoLS).

System location:

Defense Manpower Data Center, DoD Center Monterey Bay, 400 Gigling Road, Seaside, CA 93955-6771.

Categories of individuals covered by the system:

Any individual seeking access to a DoD facility or installation.

Categories of records in the system:

Information on individuals identified in the IoLS DoD Population Database: DoD ID number, Social Security Number (SSN), last name, date of birth, credential type, issuance, and expiration information; and security alert information (alert type, alert source, case number).

Information on individuals identified in the IoLS Local Population Database: Full name; date of birth; SSN; Local Population identifier; foreign national ID; gender; race; citizenship information; contact information (e.g., home or work mailing address, personal phone, work phone); physical features (height, weight, eye color, hair color); biometrics (photograph and fingerprints); credential type, issuance, and expiration information; security alert information (alert type, alert source, case number); and secondary identification such as a driver's license or passport.

The following will be included for individuals about whom records are maintained in the FBI National Crime Information Center (NCIC) Wanted Person File: identity information (to include alternate identity information): SSN; full name; gender; race; ethnicity; address; place of birth; date of birth; citizenship; physical features (height, weight, eye color, hair color or other identifying characteristics); vehicle/vessel license information; want/warrant type, time, location, and case number of offense, violation or incident; extradition limitations; incarceration information; employment information; vehicle, vessel, aircraft and/or train information; caution and medical condition indicators.

Authority for maintenance of the system:

10 U.S.C. 113, Secretary of Defense; DoD Directive 1000.25, DoD Personnel Identity Protection (PIP) Program; DoD Instruction 5200.08, Security of DoD Installations and Resources and the DoD Physical Security Review Board (PSRB); DoD 5200.08-R, Physical Security Program; Directive-Type Memorandum (DTM) 09-012, Interim Policy Guidance for DoD Physical Access Control; and E.O. 9397 (SSN), as amended.

Purpose(s):

To evaluate individuals' eligibility for access to DoD facilities or installations and implement security standards controlling entry to DoD facilities and installations. This process includes vetting to determine the fitness of an individual requesting or requiring access, issuance of local access credentials for members of the public requesting access to DoD facilities and installations, and managing and providing updated security and credential information on these individuals. To ensure that identity and law enforcement information is considered when determining whether to grant physical access to DoD facilities and installations.

Routine uses of records maintained in the system, including categories of users and the purposes of such uses:

In addition to those disclosures generally permitted under 5 U.S.C. 552a(b) of the Privacy Act of 1974, as amended, the records contained herein may specifically be disclosed outside the DoD as a routine use pursuant to 5 U.S.C. 552a(b)(3) as follows:

To the FBI for the purpose of determining if records about individuals seeking access to DoD facilities and installations are maintained in the NCIC's Wanted Person File.

The DoD Blanket Routine Uses set forth at the beginning of the Office of the Secretary of Defense (OSD) compilation of systems of records notices may apply to this system.

Policies and practices for storing, retrieving, accessing, retaining, and disposing of records in the system:

Storage:

Electronic storage media.

Retrievability:

Records may be retrieved by DoD ID Number, Local Population identifier, SSN, or credential information.

Safeguards:

Access to these records is role-based and is limited to those individuals requiring access in the performance of their official duties. Audit logs will be maintained to document access to data. All data transfers and information retrievals using remote communication facilities are encrypted. Records are maintained in encrypted databases in a controlled area accessible only to authorized personnel. Entry to these areas is restricted by the use of locks, guards, and administrative procedures. All individuals granted access to this system of records are to receive Information Assurance and Privacy Act training annually.

Retention and disposal:

Disposition Pending (until the National Archives and Records Administration approves a retention and disposal schedule, records will be treated as permanent).

System manager(s) and address:

Deputy Director for Identity, Defense Manpower Data Center, 4800 Mark Center Drive, Alexandria, VA 22350-6000.

Notification procedure:

Individuals seeking to determine whether information about themselves is contained in this system should send written inquiries to the Deputy for Identity, Defense Manpower Data Center, 4800 Mark Center Drive, Alexandria, VA 22350.

Requests must contain the full name and Social Security Number of the subject, and a return address.

Record access procedures:

Individuals seeking access to information about themselves contained in this system should address written inquiries to the Office of the Secretary of Defense/Joint Staff Privacy Office, 1155 Defense Pentagon, Washington, DC 20301-1155.

Signed, written requests must include the full name and Social Security Number of the subject and a return address.

Contesting record procedures:

The Office of the Secretary of Defense/Joint Staff rules for accessing records, contesting contents, and appealing initial agency determinations are contained in Office of the Secretary of Defense Administrative Instruction 81; 32 CFR part 311; or may be obtained from the Privacy Act Officer, Office of Freedom of Information, Washington Headquarters Services, 1155 Defense Pentagon, Washington, DC 20301-1155.

Information provided by the NCIC Wanted Person Files is exempt from the amendment and appeal provisions described in 5 U.S.C. 552a(f).

Record source categories:

Defense Enrollment and Eligibility Reporting System (DEERS), FBI NCIC Wanted Person File, DoD Physical Access Control Systems, DoD Visitor Registration Centers.

Exemptions claimed for the system:

The records contained in this system are used for criminal, civil, and administrative enforcement requirements. To the extent that copies of exempt records may become part of these records through JUSTICE/FBI-001, National Crime Information Center (NCIC), OSD hereby claims the same exemptions for the records as claimed at their source (JUSTICE/FBI-001, National Crime Information Center (NCIC)). This system of records may be exempt from the following provisions of 5 U.S.C. 552a sections (c)(3) and (4), (d), (e)(1) through (3), (e)(4)(G) through (I), (e)(5) and (8), (f), and (g) (as applicable) of the Act.

An exemption rule for this system has been promulgated in accordance with requirements of 5 U.S.C. 553(b)(1), (2), and (3), (c), and (e) and published in 32 CFR part 311. For additional information contact the system manager.

[FR Doc. 2014-04246 Filed 2-26-14; 8:45 am]

BILLING CODE 5001-06-P